DEPARTMENT OF THE TREASURY

United States Mint

Privacy Act of 1974, as Amended

AGENCY: United States Mint, Treasury.

ACTION: Notice of proposed alteration.

SUMMARY: In accordance with the Privacy Act of 1974, as amended, 5 U.S.C. 552a the Department of the Treasury (Treasury) and the United States Mint propose alterations to the current Treasury system of records entitled, Department of the Treasury/United States Mint—.009 Order Management System (OMS) previously known as Retail Sales System (RSS); Customer Mailing List; Order Processing Records for Coin Sets, Medals and Numismatic Items; Records of Undelivered Orders; and Product Descriptions, Availability and Inventory.

DATES: Comments must be received no later than September 19, 2014. The proposed altered system of records will be effective September 29, 2014 unless the United States Mint receives comments that would result in a contrary determination.

ADDRESSES: Comments should be sent to the Disclosure Office, United States Mint, 801 9th Street NW., Washington, DC 20220, Attention: Revisions to Privacy Act Systems of Records. Comments can be faxed to (202) 756-6153 or emailed to Kathleen.Saunders-Mitchell@usmint.treas.gov. For emails, please place “Revisions to SORN” in the subject line. Comments will be made available for public inspection upon written request. The United States Mint will make such comments available for public inspection and copying at the above listed location, on official business days between the hours of 9 a.m. and 5 p.m. Eastern Time. Persons wishing to inspect the comments submitted must request an appointment by telephoning (202) 354-6788. You should submit only information that you wish to make available publicly.

FOR FURTHER INFORMATION CONTACT: Kathleen Saunders-Mitchell, 801 9th Street NW., Washington, DC 20220, by telephone at (202) 354-6788 (not a toll free number), or by email at Kathleen.Saunders-Mitchell@usmint.treas.gov.

SUPPLEMENTARY INFORMATION: The United States Mint, a bureau of Treasury, last published its inventory of Privacy Act systems of record on January 8, 2013, 78 FR 1307 at 1314. Included in that inventory was a system of records entitled Treasury/United States Mint .009—Retail Sales System. The United States Mint is proposing to alter this existing system of records to reflect attributes of its new electronic commerce system: Order Management System. The existing and new systems share some similar features in that they both support an online store, order fulfillment, and a customer database; however, the new system differs from the existing system in that it is cloud-based, has significantly expanded data management and marketing customization capabilities, and uses Web measurement and customization technologies (some of which collect and store personally identifiable information). The United States Mint intends the new system to be more durable, accommodate greater customer traffic, and generally allow the bureau to conduct its numismatic sales operations in a more productive, reliable, and secure manner in accordance with 31 U.S.C. 5111(a)(3) and 5136. Because the system is a contractor-operated commercial cloud-based system, uses Web measurement and customization technologies (some of which collect and store personally identifiable information), and is capable of delivering targeted marketing based on the behavior and interests of the customer, the United States Mint has taken appropriate steps to minimize the risk of unauthorized access to the system by confirming that the system, the bureau's facilities, and the contractor's facilities have appropriate information security controls that have been tested and deployed prior to system operation. The United States Mint is also making disclosures to, and obtaining consent from, the individuals providing the information, as required by applicable laws, regulations, and guidelines.

The United States Mint is altering this system of records to allow for—(1) a change of the system's name from Retail Sales System to Order Management System; (2) additions to the system location to reflect its cloud-based structure; (3) additions of government contractor and subcontractor employees to the categories of individuals in the system; (4) additions to categories of records in the system to reflect the addition of government contractor and subcontractor activities, and the system's expanded capabilities, such as storing employee audit and access records, customer birth month, credit card information, chat and phone call records, gift recipient names and delivery information, Internet Protocol (IP) addresses and device settings, product preferences, bureau online store browsing behavioral information, and market segmentation; (5) additions to the purpose of the system to reflect the United States Mint's intention to use the data in the system to better understand its customer base, allow easier and more efficient sales checkout and customer service, and deliver targeted marketing suggestions to customers based on their interests; (6) additions to the retrievability section to include employee and contractor user identifications, product preferences, email addresses, market segmentation categories, bureau online store browsing behavioral information; (7) additions to record source categories to include gift recipients, government contractor and subcontractor employees, applications that generate derived data, and internet service providers of persons who visit our online store; and (8) changes to the notification procedures.

In accordance with 5 U.S.C. 552a(r), a report of this altered system of records has been provided to the Office of Management and Budget and to Congress.

Helen Goff Foster,
Deputy Assistant Secretary for Privacy, Transparency, and Records.

Treasury/United States Mint .009

System name:

Description of changes: The system name will be changed from Retail Sales System to Order Management System. When altered as proposed, the system name will read as follows:

Treasury/United States Mint .009—Order Management System.

System location:

Description of changes: The system location will be changed to indicate that electronic data are stored in an automated system with a central location at the contractor's facility in Allen, Texas, and is accessible from United States Mint Headquarters in Washington, DC. When altered as proposed, the system location will read as follows:

Electronic records are maintained at the contractor's location in Allen, Texas and are accessible from United States Mint Headquarters, 801 9th Street NW., Washington, DC 20220. Paper records are stored at the United States Mint Headquarters, 801 9th Street NW., Washington, DC 20220.

Categories of individuals covered by the system:

Description of changes: Categories of individuals in the system will be changed to add employees of government contractors and subcontractors. When altered as proposed, the categories of individuals covered by the system will read as follows:

Members of the public, federal employees, and employees of government contractors and subcontractors.

Categories of records in the system:

Description of changes: Categories of records in the system will be changed to add Federal employee, government contractor employee, and subcontractor employee audit logs and system access records; customer birth month and credit card information; chat and phone call records; gift recipient names and delivery information; site visitor IP addresses and device settings; customer product preferences; bureau online catalog browsing and behavioral information; and market segmentation. When altered as proposed, the categories of records in the system will read as follows:

(a) Names and user IDs of Federal employees, employees of government contractors and subcontractors, and audit logs and records of their system access;

(b) Customer names, billing and shipping addresses, phone numbers, email addresses, payment, birth month, and credit card information, product and communication preferences, order history, and intended uses of subscribed promotional materials of—(1) individuals who have purchased numismatic items online, by phone, in person or by mail order, or subscribed to receive bureau product-related communications or promotional materials, and (2) individuals who have registered to create an account to purchase products online;

(c) Names, addresses, and delivery information of gift recipients;

(d) Tracked Web browsing and behavioral information, IP addresses, device settings, market segmentation is collected for registered account holders, purchasers, and email newsletter subscribers.

(e) Notes and transcripts of contractor and subcontractor employees and persons who use the online live chat feature; and

(f) Notes, recordings and transcripts of phone calls of contractor and subcontractor employees and persons who contact the United States Mint customer service center.

* * * * *

Purpose(s):

Description of changes: The purpose of the system will be changed to add the United States Mint's intention to use the data in the system to better understand its customer base, allow easier and more efficient checkout and customer service, and deliver targeted marketing suggestions (including through Web measurement and customization technologies, some of which collect and store personally identifiable information) to customers based upon their interests. When altered as proposed, the categories of records in the system will read as follows:

The purpose of this system is to permit the United States Mint to perform the following: Maintain a mailing list of customers and interested parties to provide continuous communication and promotional materials about existing and upcoming numismatic product offerings, circulating coins, and activities; record and maintain records of customers' and interested parties' order information and requests for promotional materials; record and maintain records on individuals who have registered to create accounts and have opted-in to Web measurement and customization technologies that collect and store personally identifiable information to perform market segmentation that allows them to receive targeted marketing suggestions and allows the United States Mint to better understand its customer base; record and maintain records on individuals who have registered to create accounts and have opted-in to having their information retained for more efficient checkout and capturing and processing of orders through each stage of the order life cycle; maintain integrity and security of orders, customer information, and the system; record and maintain customer phone calls and chats with customer service representatives; research and resolve orders that were not successfully delivered to customers and interested parties; and maintain a list of its products and monitor and maintain product and promotional material inventory levels to meet customer and interested party demand, while remaining within mandated mintage levels, as applicable.

* * * * *

Retrievability:

Description of changes: The retrievability will be changed to add new identifiers used to retrieve information from the system, including employee user identification, product preferences, email address, market segmentation categories, bureau online catalog browsing behavioral information. When altered as proposed, the retrievability section system will read as follows:

Name, address, phone number, email address, customer number or order number, order date, whether or not the account is flagged (such as due to an unusual quantity ordered or an order requiring verification for processing and completion), product preferences, market segmentation categories, bureau online catalog browsing behavioral information, shipment tracking number, any internal identification number that may be assigned to the request, employee, government contractor and subcontractor employee user identification.

Safeguards:

Description of changes: The safeguards will be changed to reflect further administrative access controls. When altered as proposed, the safeguards section will read as follows:

Paper records are stored in secured filing cabinets with access only by authorized personnel. Electronic records are stored in secured systems subject to access controls in accordance with Department of the Treasury and United States Mint policies and procedures. Access to electronic records is restricted to authorized personnel, and is subject to multiple security controls, including an access-approval process, unique user identifier, user authentication and account management, and password management. Only those individuals requiring the information to accommodate handling of transactions with the customers, or otherwise with a need to know the information for the performance of their official duties, can access information pertaining to an individual.

Record source categories:

Description of changes: The record source categories will be changed to reflect a reference to gift recipients and inclusion of government contractor and subcontractor employees, applications that generate derived data, and internet service providers of persons who visit our bureau online catalog. When altered as proposed, the record source section will read as follows:

Members of the public (including customers who provide information about third-party gift recipients), IP addresses of persons who visit the bureau online catalog, applications that generate derived data, government employees, government contractor employees, and subcontractor employees.

* * * * *

Notification Procedure:

Description of changes: The notification procedures will be amended to leave out the ability for customers to change orders once the online transaction has been processed.

When altered as proposed, the record source section will read as follows:

Requests from individuals wishing to be notified if they are currently named in this system of records, or seeking access to any record contained in the system of records, or seeking to contest its content, should be addressed to the “System Manager and Address” described above. Requests may be made in accordance with instructions appearing at 31 CFR Part 1, subpart C, appendix H. Requests for information or specific guidance on where to send records requests should be addressed to the following official: Disclosure Officer, United States Mint, 801 9th Street NW., Washington DC 20220. Individuals who have previously registered on the bureau's Web site for a customer account or electronic product notifications may access their system records online by authenticating with their valid username and password. Individuals making requests and inquiries concerning their system records must provide identification to include their name, address, telephone number, customer identification number and order number (or a combination of identifying information including order information depending on the request) which must be successfully validated in the system.

* * * * *

[FR Doc. 2014-19712 Filed 8-19-14; 8:45 am]

BILLING CODE 4810-37-P